DEPARTMENT OF TRANSPORTATION

Federal Aviation Administration

[Docket No 2020-0260]

Agency Information Collection Activities: Requests for Comments; Clearance of a Renewed Approval of Information Collection: Verification of Authenticity of Foreign License, Rating, and Medical Certification; Extension of Comment Period

AGENCY: Federal Aviation Administration (FAA), DOT.

ACTION: Notice; extension of comment period.

SUMMARY: In accordance with the Paperwork Reduction Act of 1995, FAA invites public comments about our intention to request the Office of Management and Budget (OMB) approval to renew an information collection. The Federal Register Notice with a 60-day comment period soliciting comments on the following collection of information was published on 4/15/2020. The collection involves information used to identify foreign airmen in order to allow the agency to verify their foreign license when used to qualify for a U.S. certificate. Respondents are holders of foreign licenses wishing to obtain U.S. Certificates.

DATES: Written comments should be submitted by January 11, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Margaret A Hawkins by email at: Margaret.A.Hawkins@faa.gov; phone: 1-405-954-7045.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0724.

Title: Verification of Foreign License, Rating and Medical Certification.

Form Numbers: Form 8060-71.

Type of Review: Renewal of an information collection.

Background: The Federal Register Notice with a 60-day comment period soliciting comments on the following collection of information was published on 04/15/2020 (85 FR 21061). The information collected is used to properly identify airmen to allow the agency to verify their foreign license being used to qualify for a U.S. certificate. The respondents are holders of a foreign license wishing to obtain a U.S. certificate. A person who is applying for a U.S. pilot certificate or rating on the basis of a foreign pilot license must apply for verification of that license at least 90 days before arriving at the designated FAA FSDO where the applicant intends to receive the U.S. pilot certificate.

Respondents: Approximately 8,700 foreign applicants for U.S. certificates annually.

Frequency: On occasion.

Estimated Average Burden per Response: 10 minutes.

Estimated Total Annual Burden: 1,450 Hours.

Issued in Oklahoma City, OK on November 19, 2020.
Margaret A Hawkins,
Compliance Specialist, Forms Manager, Airmen Certification Branch, AFB-720.

[FR Doc. 2020-26004 Filed 12-10-20; 8:45 am]

BILLING CODE 4910-13-P